DEPARTMENT OF HEALTH AND HUMAN SERVICES

Office of the Secretary

[Document Identifier: HHS-OS-4040-New-30D]

Agency Information Collection Activities; Submission to OMB for Review and Approval; Public Comment Request

AGENCY: Office of the Secretary, HHS.

ACTION: Notice.

SUMMARY: In compliance with section 3507(a)(1)(D) of the Paperwork Reduction Act of 1995, the Office of the Secretary (OS), Department of Health and Human Services, has submitted an Information Collection Request (ICR), described below, to the Office of Management and Budget (OMB) for review and approval. The ICR is for a new collection. Comments submitted during the first public review of this ICR will be provided to OMB. OMB will accept further comments from the public on this ICR during the review and approval period.

DATES: Comments on the ICR must be received on or before March 10, 2016.

ADDRESSES: Submit your comments to OIRA_submission@omb.eop.gov or via facsimile to (202) 395-5806.

FOR FURTHER INFORMATION CONTACT: Information Collection Clearance staff, Information.CollectionClearance@hhs.gov or (202) 690-6162.

SUPPLEMENTARY INFORMATION: When submitting comments or requesting information, please include the Information Collection Request Title and document identifier HHS-OS-4040-New-30D for reference.

Information Collection Request Title: DATA Act Sec. 5. “Simplifying Federal Award Reporting” Grants Pilot

Abstract: Public Law 113-101, The Digital Accountability and Transparency Act of 2014 (DATA Act) expands the Federal Funding Accountability and Transparency Act of 2006 by increasing accountability and transparency in Federal spending. Section 5 of the DATA Act (“Sec. 5. Simplifying Federal Award Reporting”) tasks the Director of the Office of Management and Budget (OMB) to establish a pilot program (Sec. 5 (b)).

OMB has designated the Department of Health and Human Services (HHS) as the executing agent of the pilot program. Within HHS, the DATA Act Program Management Office (PMO) (DAP) has been established under the Office of the Assistant Secretary for Financial Resources (ASFR) in order to implement this pilot program. ASFR/DAP, in coordination with Grants.gov, is requesting a generic clearance for the purpose of conducting tests under the pilot program to obtain qualitative and quantitative data and gain an understanding of the burden imposed on Federal recipients.

The DAP has designed several test models to evaluate recipient burden and assess quality of data. The goal of these test models is to determine whether new technology, data standards, processes, and forms aid in reducing recipient burden and increase the accuracy and quality of the data submitted. Under this clearance, a variety of methods (surveys, focus groups, etc.) could be used to collect data, with the exact nature of the questions currently undetermined. DAP expects these questions to include, but not be limited to, topics pertaining to the Standard Form (SF) 424, the Consolidated Federal Financial Reports, and the expanded Single Audit form (SF-SAC). If this data is not collected, the requirements of the DATA Act Section 5 pilot will not be met. The types of collections that this generic clearance covers include, but are not limited to:

• Surveys,

• Focus Groups,

• Other qualitative methods such as interviews, small discussion groups, and case studies.

Likely Respondents: Recipients of Federal contracts, grants, and sub-awards.

Total Estimated Annualized Burden—Hours
Estimated annual reporting burden: Type of collection | Estimated annual reporting burden: Number of respondents | Estimated annual reporting burden: Annual frequency per response | Estimated annual reporting burden: Hours per response | Estimated annual reporting burden: Total hours
Surveys, Focus Groups, and other qualitative methods | 300 | 1 | 56.25 | 16,875
Total | 300 |  |  | 16,875

Darius Taylor,
Information Collection Clearance Officer.

[FR Doc. 2016-02472 Filed 2-8-16; 8:45 am]

BILLING CODE 4151-AE-P